TENNESSEE VALLEY AUTHORITY

Paperwork Reduction Act of 1995, as Amended by Pub. L. 104-13; Submission for OMB Review; Comment Request

AGENCY: Tennessee Valley Authority.

ACTION: Submission for OMB Review; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC: 000XYDJ)

Comments should be sent to OMB Office of Information and Regulatory Affairs, Attention: Desk Officer for Tennessee Valley Authority no later than September 7, 2004.

SUPPLEMENTARY INFORMATION: Type of Request: Regular submission, proposal for an extension of a currently approved collection, with revisions, which will expire August 31, 2004. (OMB Control number: 3316-0105.)

Title of Information Collection: TVA Police Customer Satisfaction Survey.

Frequency of Use: On occasion.

Type of Affected Public: Individuals and Small Business.

Small Business or Organizations Affected: Yes.

Estimated Number of Annual Responses: 50.

Estimated Total Annual Burden Hours: 4.25.

Estimated Average Burden Hours Per Response: 5 Minutes.

Need For and Use of Information: This information collection will be randomly distributed to individuals who use TVA facilities and come in contact with TVA Police Officers (i.e., campers, boaters, marina operators, etc.) to provide feedback on the quality of the security and safety provided by TVA Police on TVA-managed public lands. Individuals may also provide feedback by accessing the TVA Police Web site (http://www.tva.gov). The information collection will be used to evaluate current security and safety policies and to identify new opportunities for improvement.

Jacklyn J. Stephenson,
Senior Manager, Enterprise Operations Information Services.

[FR Doc. 04-17978 Filed 8-5-04; 8:45 am]

BILLING CODE 8120-08-P